DEPARTMENT OF ENERGY

Federal Energy Regulatory Commission

[Docket No. CP00-40-002]

Florida Gas Transmission Company; Notice of Application

October 10, 2000.

Take notice that on September 29, 2000, Florida Gas Transmission Company (FGT), 1400 Smith Street, P.O. Box 1188, Houston, Texas 77251-1188, filed in Docket No. CP00-40-002 an amendment to its application in Docket Nos. CP00-40-000 and 001, pursuant to Section 7(c) of the Natural Gas Act (NGA) and Part 157 of the Federal Energy Regulatory Commission's (Commission) Regulations, to: (1) Re-route approximately six miles of the Bayside Lateral, in Hillsborough County, FL; (2) eliminate approximately 24 miles of the previously proposed mainline Loops D and E in Suwannee, Columbia, Bradford, Clay, and Putnam Counties, FL, and, instead, increase the horsepower installed at Compressor Station No. 17, in Marion County, FL; (3) make minor modifications to the beginning of West Leg Loop J, in Gilchrist County, FL, and the ending of West Leg Loop K, in Levy County, FL; and (4) slightly decrease the horsepower to be installed at Compressor Stations 15A, 16, 26, and 27, in Taylor, Bradford, Citrus, and Hillsborough Counties, FL, respectively, all as more fully set forth in the application which is on file with the Commission and open to public inspection. This filing may be viewed on the web at http://www.ferc.fed.us/online/rims.htm (call 202-208-2222 for assistance).

FGT continues to request that the Commission find that the costs of the proposed Phase V Expansion can be rolled-in to establish rates for service under its incrementally priced Rate Schedule FTS-2. FGT states that the maximum rates applicable to Rate Schedule FTS-2 are expected to be lower as a result of such rolling-in of costs and thus, will not require subsidies from existing shippers.

FGT states that the proposed revisions to facilities will result in no changes to the proposed service, but are made in order to reduce the environmental impact and capital cost of the Phase V Expansion project. For the total Phase V Expansion as amended, FGT proposes to: (1) Acquire an undivided interest in Koch Gateway Pipeline Company's (Koch Gateway) Mobile Bay Lateral in Mobile County, Alabama that will give FGT capacity of 300,000 MMBtu per day; (2) construct approximately 167.1 miles of various diameter pipeline, additional compression totaling 132,615 horsepower, three delivery points, one new supply measurement station, and various other miscellaneous facilities. The proposed Phase V Expansion will add an incremental capacity of approximately 305,819 MMBtu per day, on an annual daily average basis (net of turn-back). FGT estimates the total cost to be $462 million, including an estimated $10 million for the proposed acquisition of an interest in the Mobile Bay Lateral.

FGT requests that the Commission issue a preliminary determination on non-environmental issues by November 2000, and a final determination on call certificate issues on or before April 15, 2001.

Any questions regarding the application should be directed to Mr. Stephen T. Veatch, Director of Certificates and Regulatory Reporting, Suite 3997, 1400 Smith Street, Houston, Texas 77002 or call (713) 853-6549.

Any person desiring to participate in the hearing process or to make any protests with reference to said application should on or before October 31, 2000, file with the Federal Energy Regulatory Commission, Washington, DC 20426, a motion to intervene or a protests in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of the environmental documents and will be able to participate in meetings associated with the Commission's environmental review process. Commenters will not be required to serve copies of filed documents on all other parties. However, commenters will not receive copies of all documents filed by other parties, or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure provided for, unless otherwise advised, it will be unnecessary for FGT to appear or be represented at the hearing.

David P. Boergers,
Secretary.

[FR Doc. 00-26444 Filed 10-13-00; 8:45 am]

BILLING CODE 6717-01-M